DEPARTMENT OF LABOR

Employment and Training Administration

[TA-W-72,587]

Raleigh Film and Television Studios, LLC, Los Angeles, CA; Notice of Negative Determination on Reconsideration

On October 7, 2010, the Department of Labor issued an Affirmative Determination Regarding Application for Reconsideration for the workers and former workers of Raleigh Film and Television Studios, LLC, Los Angeles, California (the subject firm). The Department's Notice was published in the Federal Register on October 25, 2010 (75 FR 65512). The subject firm supplies sound stage, production, catering, administrative, and other entertainment production industry-related services.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial negative determination was based on the findings that there was, during the relevant period, no increase in imports of services like or directly competitive with the entertainment production industry-related services supplied by the workers and no a shift to/acquisition from a foreign country by the subject firm of like or directly competitive services. The investigation also revealed that the subject workers are not adversely affected secondary workers.

The request for reconsideration alleges that the subject firm is building large film studios in foreign countries.

Information obtained during the reconsideration investigation confirmed that the subject firm did not shift to/acquire from a foreign country the supply of services like or directly competitive with the entertainment production industry-related services supplied by the workers.

Conclusion

After reconsideration, I affirm the original notice of negative determination of eligibility to apply for worker adjustment assistance for workers and former workers of Raleigh Film and Television Studios, LLC, Los Angeles, California.

Signed in Washington, DC, on this 4th day of March 2011.
Del Min Amy Chen,
Certifying Officer, Office of Trade Adjustment Assistance.

[FR Doc. 2011-6186 Filed 3-16-11; 8:45 am]

BILLING CODE 4510-FN-P